DEPARTMENT OF ENERGY

Federal Energy Regulatory Commission

[Docket No. CP96-152-032]

Enbridge Pipelines (KPC); Notice of Refund Report

December 21, 2004.

Take notice that on December 13, 2004, Enbridge Pipelines (KPC), formerly Kansas Pipeline Company (KPC), (Enbridge KPC) submitted a refund plan pursuant to Enbridge Pipelines (KPC), 109 FERC ¶ 61,042 (2004) (October 8 Order), issued in Docket No. CP96-152-030.

Enbridge KPC states that the refund plan describes the calculation of refunds relating to the initial rates ultimately approved by the Commission for Enbridge KPC in Docket No. CP96-152-030. Enbridge KPC states that the proposed refund is calculated in accordance with the agreement it has reached with its various firm and interruptible transportation customers and the October 8 Order. Enbridge KPC explains that, consistent with the October 8 Order, the refund plan details the amount of any refund due to each customer, with separately stated estimates of interest due; the calculations supporting the refund amounts; and a proposal for distribution of any such refunds.

In order to provide its customers with the refund amounts set forth in this refund plan as soon as possible, Enbridge KPC also requests that the Commission grant expedited treatment of this filing and issue an order accepting the terms of Enbridge KPC's refund plan by December 30, 2004.

Enbridge KPC states that copies of this filing are being mailed or, if requested, transmitted by e-mail to all affected customers of Enbridge KPC and interested state commissions, as well as to all parties appearing on the Commission's official service list in this docket.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. Eastern Time on December 29, 2004.

Magalie R. Salas,
Secretary.

[FR Doc. E4-3840 Filed 12-27-04; 8:45 am]

BILLING CODE 6717-01-P